Title 3—

The President

Executive Order 13735 of August 12, 2016

Providing an Order of Succession Within the Department of the Treasury

By the authority vested in me as President by the Constitution and the laws of the United States of America, including the Federal Vacancies Reform Act of 1998, as amended, 5 U.S.C. 3345 et seq. (the “Act”), it is hereby ordered that:

Section 1. Subject to the provisions of section 3 of this Executive Order, the officers named in section 2, in the order listed, shall act as and perform the functions and duties of the office of Secretary of the Treasury (Secretary) during any period when both the Secretary and the Deputy Secretary of the Treasury have died, resigned, or are otherwise unable to perform the functions and duties of the office of Secretary.

Sec. 2. Order of Succession. (a) Under Secretaries of the Treasury, in the order in which they shall have taken the oath of office as such officers;

(b) General Counsel of the Department of the Treasury;

(c) Deputy Under Secretaries of the Treasury and those Assistant Secretaries of the Treasury appointed by the President by and with the consent of the Senate, in the order in which they shall have taken the oath of office as such officers; and

(d) the following officers of the Department of the Treasury, in the order listed:

(i) Chief of Staff;

(ii) Assistant Secretary for Management;

(iii) Fiscal Assistant Secretary;

(iv) Commissioner of Internal Revenue, Internal Revenue Service;

(v) Commissioner, Bureau of the Fiscal Service;

(vi) Deputy Commissioner, Fiscal Accounting and Shared Services, Bureau of the Fiscal Service; and

(vii) Commissioner, Wage and Investment Division, Internal Revenue Service.

Sec. 3. Exceptions. (a) No individual who is serving in an office listed in section 2(a)-(d) in an acting capacity shall, by virtue of so serving, act as Secretary pursuant to this Executive Order.

(b) Notwithstanding the provisions of this Executive Order, the President retains discretion, to the extent permitted by the Act, to depart from this Executive Order in designating an acting Secretary.

(c) No individual listed in section 2(a)-(d) shall act as Secretary unless that individual is otherwise eligible to serve under the Act.

Sec. 4. Revocation. Executive Order 13246 of December 18, 2001, and the Presidential Memorandum of March 19, 2002 (“Designation of Officers of the Department of the Treasury”), are hereby revoked.

Sec. 5. Judicial Review. This order is not intended to, and does not, create any right or benefit, substantive or procedural, enforceable at law or in equity by any party against the United States, its departments, agencies, or entities, its officers, employees, or agents, or any other person.

THE WHITE HOUSE,

August 12, 2016.

[FR Doc. 2016-19723

Filed 8-16-16; 8:45 am]

Billing code 3295-F6-P